DEPARTMENT OF ENERGY

Federal Energy Regulatory Commission

[Docket No. CP09-435-000]

Transwestern Pipeline Company, LLC; Notice of Request Under Blanket Authorization

June 22, 2009.

Take notice that on June 17, 2009, Transwestern Pipeline Company, LLC (Transwestern), 711 Louisiana Street, Houston, Texas 77002-2716, filed in Docket No. CP09-435-000, a prior notice request pursuant to sections 157.205 and 157.210 of the Federal Energy Regulatory Commission's regulations under the Natural Gas Act for authorization to place into service and operate the existing three 4,000 horsepower (HP) reciprocating gas engines, compressors, and ancillary facilities, located in Apache County, Arizona, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Transwestern proposes to return to service the existing three 4,000 HP reciprocating gas engines, compressors, and ancillary facilities at Transwestern's Compressor Station 4 that were abandoned under Docket No. CP08-51-000, to insure that Transwestern can maintain the capacity of up to 1,225,000 Dth/d. Transwestern states that during May 2009, Transwestern experienced operating issues with the electric units constructed under Docket No. CP08-51-000, including overheating due to poor ventilation in the compressor building and repairs to one of the electric units. Transwestern states that this proposal will not require any new construction, will have no impact to the quality of the environment, will not be detrimental to services provided, and will not disadvantage Transwestern's customers.

Any questions regarding the application should be directed to Kelly Allen, Manager of Certificates and Reporting, Transwestern Pipeline Company, LLC, 711 Louisiana Street, 9th Floor South Tower, Houston, Texas 77002-2716, or call (281) 714-2056, or by e-mail Kelly.Allen@energytransfer.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E9-15208 Filed 6-26-09; 8:45 am]

BILLING CODE 6717-01-P